DEPARTMENT OF HEALTH AND HUMAN SERVICES

Health Resources and Services Administration

Notice of Correction

AGENCY: Health Resources and Services Administration (HRSA), Department of Health and Human Services (HHS).

ACTION: Notice; correction.

SUMMARY: HRSA is correcting a notice published in the September 26, 2017 issue of the Federal Register entitled Improving Care for Children and Youth—Incentive Prize. This correction amends the subject of the challenge and the timeline. Please note, however, that this correction notice, along with future updates, as needed and pursuant to recent changes to the applicable law, will be posted on challenge.gov and mchbgrandchallenges.hrsa.gov.

FOR FURTHER INFORMATION CONTACT: Jessie Buerlein, Public Health Analyst, Maternal and Child Health Bureau, Health Resources and Services Administration, 5600 Fishers Lane, Rockville, MD 20852, jbuerlein@hrsa.gov, 301-443-8931.

Correction

In the Federal Register at 82 FR 44812 (September 26, 2017) please make the following corrections: In the Summary section, correct estimated dates of each phase to read:

Estimated dates for each phase are as follows:

Phase 1: Effective September 2018

Phase 1: Submission ends December 2018

Phase 1: Judging Period: December 2018-January 2019

Phase 1: Winners Announced January 2019

Phase 2: Begins February, 2019

Phase 2: Submission Period Ends: July, 2019

Phase 2: Judging Period: July 2019

Phase 2: Winners Announced August 2019

Phase 3: Begins August 2019

Phase 3: Submission Period Ends: December 2019

Phase 3: Winner Announced January 2020

In the Subject of Challenge Competition section, change to:

MCHB is sponsoring the Preventing Opioid Misuse in Pregnant Women and New Moms Challenge. Along with the general population, there has been a rapid rise in opioid use among pregnant women in recent years resulting in a surge of infants born with Neonatal Abstinence Syndrome (NAS), increasing nearly fivefold nationally between 2000 and 2012.¹ This increase has led to rising costs of care and gaps in services for this population. Medicaid payments to hospitals for NAS treatment services have increased from about $564 million to $1.2 billion nationwide, with more than 80 percent of NAS cases paid for by Medicaid.² Despite this rising need, availability of services for pregnant and postpartum women is limited.

¹ Patrick, Davis, Lehmann & Cooper, 2015.

² https://www.gao.gov/assets/690/687580.pdf.

Pregnant women, new mothers, and families who struggle with opioid use disorders (OUD) face a variety of barriers in obtaining safe and effective treatment and care. Barriers include:

• Limited access to substance use disorder (SUD) treatment and recovery services;

• limited access to care and long-term supports for infants born with (NAS);

• limited access to family-centered recovery approaches, including co-located treatment and child care support;

• significant stigma;

• obstacles within the criminal justice system; and

• limited access to trauma-informed care.

Women living in rural and geographically isolated areas often face additional barriers with accessing limited services and coordination.

Family-centered approaches to recovery address many of the barriers to care that women and families face. Research shows that women are more likely to seek and stay in treatment longer if they are able to maintain their caregiving role while in treatment, as well as either stay within the same treatment services or retain relationships with treatment providers throughout the provision of services.³

³ https://www.womenshealth.gov/files/documents/final-report-opioid-508.pdf.

This challenge will improve access to quality health care, including SUD treatment, recovery and support services for pregnant women with OUD, their infants, and families, especially those in rural and geographically isolated areas. Innovators will develop ideas, tools, and/or platforms, to address as many of the barriers that limit access to quality treatment, care and support services for those with OUD, including pregnant women and new mothers.

Dated: May 17, 2018.
George Sigounas,
Administrator.

[FR Doc. 2018-11032 Filed 5-22-18; 8:45 am]

BILLING CODE 4165-15-P